NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by December 10, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Applicant: Thomas A. Day, School of Life Sciences, Arizona State University, P.O. Box 874501, Tempe AZ 85287-4501.

Activity for Which Permit Is Requested

Take and Enter Antarctic Specially Protected Area. The applicant proposes to collect up to 100 seeds and 300 plants of Deschampsia antarctic (Antarctic hairgrass), and up to 100 seed capsules and up to 300 plants of Colobanthus quitensis (Antarctic pearlwort), as well as soil samples. This material will be used to study the effects of climate change (warming, altered precipitation and enhanced UV-B) on Antarctic plants and productivity of Antarctic terrestrial ecosystems. Seeds are needed to propagate material at the applicant's home institution for examining plant responses to climate change factors. Plants and soils are needed to examine how plant productivity and soil characteristics (e.g., carbon pools) change along natural microclimate gradients representing differences in temperature and moister regime. Plants and soils are also needed for transplant in the lab at Palmer Station where temperatures, precipitation, and UV-B radiation will be manipulated around the plants in order to study their responses. Transported plants and soils will subsequently be harvested and returned to the applicant's home institution for chemical analyses.

Location

Biscoe Point (ASPA #139) and other islands in the vicinity of Palmer Station, Anvers Island.

Dates

December 1, 2003 to August 31, 2006.

Nadene G. Kennedy,
Permit Officer, Office of Polar Programs.

[FR Doc. 03-28224 Filed 11-7-03; 8:45 am]

BILLING CODE 7555-01-M